DEPARTMENT OF ENERGY

National Coal Council Meeting

AGENCY: Department of Energy.

ACTION: Notice of Open Meetings.

SUMMARY: This notice announces a meeting of the National Coal Council (NCC). The Federal Advisory Committee Act (Pub. L. 92-463, 86 Stat. 770) requires that public notice of these meetings be announced in the Federal Register.

DATES: Thursday, November 5, 2015, 8:45 a.m. to 12:15 p.m.

ADDRESSES: National Energy Technology Laboratory, 1501 Wallace Road, Pittsburgh, Pennsylvania 15129.

FOR FURTHER INFORMATION CONTACT: Dr. Robert J. Wright, U.S. Department of Energy, 4G-036/Forrestal Building, 1000 Independence Avenue SW., Washington, DC 20585-0001; Telephone: 202-586-0429.

SUPPLEMENTARY INFORMATION: Purpose of the Council: The National Coal Council provides advice and recommendations to the Secretary of Energy, on general policy matters relating to coal and the coal industry.

Purpose of Meeting: The 2015 Spring meeting of the National Coal Council.

Tentative Agenda:

1. Call to order and opening remarks by Jeff Wallace, Chair, National Coal Council

2. Remarks by Dr. Grace Bochenek, Director, National Energy Technology Laboratory, U.S. Department of Energy

3. Presentation by Dr. Sean Plasynski, Director Strategic Center for Coal, National Energy Technology Laboratory, U.S. Department of Energy

4. Presentation by Dr. Jared Moore, Independent Energy Researcher, Meridian Energy Policy on The Increasing Competitiveness of CCUS Generation Under Deep Decarbonization

5. Presentation by Dr. Robert Williams, Sr. Research Scientist & Associated Faculty, Princeton Environmental Institute, Princeton University on CO2 Capture Technology Cost Buydown in EOR Applications with Alternative Financing Mechanisms

6. Council Business:

a. Finance report by Finance Committee Chair Greg Workman

b. Coal Policy Committee report by Coal Policy Committee Chair Fred Palmer

c. Communications Committee report by Communications Committee Chair Holly Krutka

d. NCC Business Report by NCC Executive Vice President & COO Janet Gellici

7. Other business

8. Adjourn

Visiting NETL requires compliance with site safety and security requirements. Please see http://www.netl.doe.gov/about/visiting-netl for full details. Due to security requirements, attendees are requested to register in advance for the meeting at: https://www.eiseverywhere.com/ereg/index.php?eventid=137597&.

Transportation to NETL will be provided for meeting registrants from the Crowne Plaza Pittsburgh South hotel (164 Fort Couch Road, Pittsburgh, PA 15241). Bus departs hotel at 7:30 a.m. and 7:55 a.m. Return transportation will be provided at 1:15 p.m. following lunch and at 3:15 p.m. following a tour of NETL's facilities.

Public Participation: The meeting is open to the public. If you would like to file a written statement with the Council, you may do so either before or after the meeting. If you would like to make oral statements regarding any item on the agenda, you should contact Dr. Robert J. Wright, 202-586-0429 or robert.wright@hq.doe.gov (email). You must make your request for an oral statement at least 5 business days before the meeting. Reasonable provision will be made to include oral statements on the scheduled agenda. The Chairperson of the Council will lead the meeting in a manner that facilitates the orderly conduct of business. Oral statements are limited to 10-minutes per organization and per person.

Minutes: A link to the transcript of the meeting will be posted on the NCC Web site at: http://www.nationalcoalcouncil.org/.

Issued at Washington, DC, on September 11, 2015.
LaTanya R. Butler,
Deputy Committee Management Officer.

[FR Doc. 2015-23371 Filed 9-16-15; 8:45 am]

BILLING CODE 6450-01-P